DEPARTMENT OF THE INTERIOR

Fish and Wildlife Service

Endangered and Threatened Species Permit Applications

AGENCY: Fish and Wildlife Service, Interior.

ACTION: Notice of receipt of applications.

SUMMARY: The following applicants have applied for permits to conduct certain activities with endangered species pursuant to Section 10(a)(1)(A) of the Endangered Species Act of 1973 (16 U.S.C. 1531, et seq.), as amended (Act). This notice is provided pursuant to Section 10(c) of the Act.

DATES: Written data or comments must be received on or before October 14, 2005.

ADDRESSES: Send written data or comments to the Regional Director (Attention: Peter Fasbender), U.S. Fish and Wildlife Service, Ecological Services, 1 Federal Drive, Fort Snelling, Minnesota 55111-4056.

FOR FURTHER INFORMATION CONTACT: Mr. Peter Fasbender, (612) 713-5343.

SUPPLEMENTARY INFORMATION: Permit Application Number: TE111357.

Applicant: Michigan Department of Natural Resources, Lansing, Michigan.

The applicant requests a permit to take the gray wolf (Canis lupis) throughout Michigan. The take would include both lethal and non-lethal control for wolves involved in depredating livestock, livestock guard animals, and pets and is consistent with the State Management Plan for wolves and the 1992 Recovery Plan for the Eastern Timber Wolf. Non-lethal control would involve harassing wolves by using rubber bullets, projectile bean bags, or other scare tactics. These activities are aimed at enhancement of survival of the species in the wild.

Permit Application Number: TE111360.

Applicant: Wisconsin Department of Natural Resources, Madison, Wisconsin.

The applicant requests a permit to take the gray wolf (Canis lupis) throughout Wisconsin for research, monitoring, and depredation abatement activities. The take would involve both lethal and non-lethal control for wolves involved in depredating livestock, livestock guard animals, and pets. Non-lethal control would involve harassing wolves by using rubber bullets, projectile bean bags, or other scare tactics. Research and monitoring efforts may involve unintentional injury or death to animals caught during the course of these activities. The taking is consistent with both the State Management Plan for wolves and the 1992 Recovery Plan for the Eastern Timber Wolf. The scientific research and depredation abatement activities are aimed at the enhancement of survival of the species in the wild.

Availability of Documents

Individuals requesting copies of the recovery permit applications should contact the Service by telephone at (612) 713-5343 or by letter (see ADDRESSES). Copies of the applications are available for public inspection at the Service's Regional Web site at: http://www.fws.gov/midwest/NEPA. All comments received from individuals become part of the official public record. Requests for such comments will be handled in accordance with the Freedom of Information Act and the Council on Environmental Quality's National Environmental Protection Act regulations [40 CFR 1506.6(f)]. Our practice is to make comments, including names and home addresses of respondents, available for public review during regular business hours. Individual respondents may request that we withhold their home address from the record, which we will honor to the extent allowable by law. If a respondent wishes us to withhold his/her name and/or address, this must be stated prominently at the beginning of the comment.

Authority: 16 U.S.C. 1539(c).

Dated: September 7, 2005.
Wendi Weber,
Assistant Regional Director, Ecological Services, Region 3, Fort Snelling, Minnesota.

[FR Doc. 05-18316 Filed 9-12-05; 12:39 pm]

BILLING CODE 4310-55-P